DEPARTMENT OF TRANSPORTATON

Maritime Administration

[Docket Number: MARAD-2002-12686]

Requested Administrative Waiver of the Coastwise Trade Laws

AGENCY: Maritime Administration, Department of Transportation.

ACTION: Invitation for public comments on a requested administrative waiver of the Coastwise Trade Laws for the vessel SPINDRIFT.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before August 5, 2002.

ADDRESSES: Comments should refer to docket number MARAD-2002-12686. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-Build Requirement

(1) Name of vessel and owner for which waiver is requested.

Name of vessel: SPINDRIFT. Owner: Mark I. and Monique Davies.

(2) Size, capacity and tonnage of vessel. According to the applicant: “Length-over-all (LOA): 43 feet 2 inches; Beam: 12 feet 7 inches; Draft: 6 feet; 6 berths; Diesel auxiliary Power: 63 HP; Tonnage: 11 NRT pursuant to 46 U.S.C. 14502''

(3) Intended use for vessel, including geographic region of intended operation and trade. According to the applicant: If the waiver be granted, the vessel would be engaged in crewed charter operations (owners as captain and crew) along the East Coast of the United States, primarily in Maine waters; and possibly in the U.S. Virgin Islands and Puerto Rico as well.”

(4) Date and Place of construction and (if applicable) rebuilding. Date of construction: 1991. Place of construction: Manila, The Philippines.

(5) A statement on the impact this waiver will have on other commercial passenger vessel operators. According to the applicant: “We do not believe this intended use of our sailboat will have any significant adverse impact on other commercial passenger vessel operators. We intend to provide only crewed charters, serving as captain and crew ourselves, and to do so only on an occasional basis rather than as a source of livelihood. We anticipate that most of the chartering will be done in Maine waters, where almost all of the crewed charters are much larger vessels in the Windjammer (schooner) fleet in Bothbay, Camden and other points East, for which we present virtually no competition. Our base of operations would be in Harpswell, ME (New Meadows River, NE Casco Bay), and we are aware of only one or possibly two other owners of sailing vessels who offer crewed charters in this immediate area of the coast * * * We anticipate that our use of this vessel for crewed charter elsewhere on the East Coast of the U.S. will be only occasional and seasonal, as we sail southward in the fall and northward from the Caribbean in the spring.”

(6) A statement on the impact this waiver will have on U.S. shipyards. According to the applicant: “We chose our vessel SPINDRIFT precisely because of her unique features that we could not find in any U.S.-built sailboat of the same size and configuration. The boats now built in the U.S. * * * did and do not meet our needs or specifications, and we were not able to afford a custom design either in the U.S. or abroad. In short, we believe that the impact of the waiver requested for this vessel would be negligible.”

Dated: June 28, 2002.
By order of the Maritime Administrator.
Joel C. Richard,
Secretary, Maritime Administration.

[FR Doc. 02-16775 Filed 7-3-02; 8:45 am]

BILLING CODE 4910-81-P